FEDERAL ELECTION COMMISSION

Sunshine Act Meetings

TIME AND DATE: Thursday, March 2, 2023 at 10:30 a.m.

PLACE: Hybrid Meeting: 1050 First Street, NE, Washington, DC (12th Floor) and Virtual.

Note: For those attending the meeting in person, current COVID-19 safety protocols for visitors, which are based on the CDC COVID-19 Community Level in Washington, DC, will be updated on the Commission's contact page by the Monday before the meeting. See the contact page at https://www.fec.gov/contact/. If you would like to virtually access the meeting, see the instructions below.

STATUS: The March 2, 2023 open meeting has been canceled.

CONTACT PERSON FOR MORE INFORMATION: Judith Ingram, Press Officer. Telephone: (202) 694-1220.

Individuals who plan to attend in person and who require special assistance, such as sign language interpretation or other reasonable accommodations, should contact Laura E. Sinram, Secretary and Clerk, at (202) 694-1040, at least 72 hours prior to the meeting date.

(Authority: Government in the Sunshine Act, 5 U.S.C. 552b)

Vicktoria J. Allen,
Deputy Secretary of the Commission.

[FR Doc. 2023-04152 Filed 2-24-23; 11:15 am]

BILLING CODE 6715-01-P